DEPARTMENT OF THE INTERIOR

Bureau of Land Management

[NV-910-04-1990-EX]

Notice of Availability for the Emigrant Mine Project Plan of Operations Draft Environmental Impact Statement

AGENCY: Bureau of Land Management, Interior.

ACTION: Notice of availability.

SUMMARY: In accordance with the National Environmental Policy Act of 1969, 43 CFR part 3809, and the Federal Land Policy and Management Act (FLPMA), the Bureau of Land Management (BLM) Elko Field Office has prepared, with the assistance of a third-party contractor, a DEIS for the Newmont Mining Corporation's proposed Plan of Operations for the Emigrant Mine Project located in northeastern Nevada.

DATES: Written comments on the DEIS will be accepted for 60 days following the date the Environmental Protection Agency publishes the Notice of Availability in the Federal Register. An Open-House Public Meeting will be held at the Bureau of Land Management Elko Field Office at 3900 E. Idaho Street, Elko, Nevada. The date and time of this public meeting will be announced through public notices, media news releases and/or mailing. This meeting will be scheduled no sooner than 15 days following the publication of this notice.

ADDRESSES: Written comments may be sent to the Elko Field Office by any of the following methods: Mail: Send to the Attention of the Emigrant Project Manager, BLM Elko Field Office, 3900 East Idaho Street, Elko, NV 89801. E-mail: tschmidt@nv.blm.gov. Fax: (775) 753-0255.

Comments, including names and addresses of respondents, will be available for public review at the above address during regular business hours, Monday-Friday, except holidays, and may be published as part of the final EIS. Individual respondents may request confidentiality. If you wish to withhold your name or street address from public review or from disclosure under the Freedom of Information Act, you must state this prominently at the beginning of your written comment. However, we will not consider anonymous comments. Such requests to withhold your name or street address from public review will be honored to the extent allowed by law. All submissions from organizations or businesses, and from individuals identifying themselves as representatives or officials of organizations or businesses, will be available for public inspection in their entirety. The DEIS is available for review at the Elko Field Office during regular business hours, 3900 E. Idaho Street, Elko, NV, and on the Elko Field Office Internet site at http://www.nv.blm.gov/elko.

FOR FURTHER INFORMATION CONTACT: Tom Schmidt, Emigrant Project Manager at the Elko Field Office, 3900 E. Idaho Street, Elko, NV 89801. Telephone: (775) 753-0200. E-mail: tschmidt@nv.blm.gov.

SUPPLEMENTARY INFORMATION: The Newmont Mining Corporation has submitted a Plan of Operations to open the Emigrant Mine about ten miles south of Carlin, Nevada. The mine and associated facilities would be located in portions of Sections 24, 26, 34, 36 of T. 32 N., R. 53 E.; and Sections 1, 2, 3, 11, 12, T. 31 N., R 53 E. The proposed Emigrant Mine would include developing and operating an open pit mine; constructing a waste rock disposal facility, storing oxide waste in mined out areas of the pit; developing an oxide heap leach pad; constructing ancillary facilities; rerouting intermittent stream and flows in the pit area; and concurrent reclamation. Proposed mining operations would last for approximately 9 years through the year 2014. Approximately 1172 acres of public land and 260 acres of private land would be disturbed.

The issues analyzed in the DEIS include potential impacts to wildlife and cultural resources; the potential for waste rock, heap leach, and pit walls to produce acid rock drainage or heavy metals; and diversion of an unnamed drainage. Cumulative impacts are also addressed. The following resources are also analyzed in the DEIS: Geology and minerals, Native American religious concerns, air and water quality, paleontology, lands and realty, fisheries, aquatic and riparian resources, range management, vegetation, soils, visual resources, recreation, wilderness, weeds, social and economic values, environmental justice, and threatened, endangered, candidate, and sensitive species.

A range of alternatives, (including, but not limited to, the no-action alternative), have been developed to address issues identified during scoping. Mitigating measures are considered in the DEIS to minimize environmental impacts and undue or unnecessary degradation of public lands.

Federal, State and local agencies and other individuals or organizations that may be interested in or affected by BLM's decision on the Emigrant Project Plan of Operations are invited to participate in the EIS process.

Dated: August 25, 2004.
Helen Hankins,
Field Office Manager.

Note: This document was received at the Office of the Federal Register on March 21, 2005.

[FR Doc. 05-5879 Filed 3-24-05; 8:45 am]

BILLING CODE 4310-HC-P